NATIONAL SCIENCE FOUNDATION

Special Emphasis Panel in Polar Programs; Notice of Meeting

In accordance with the Federal Advisory Committee Act (Pub. L. 92-463; as amended), the National Science Foundation announces the following meeting:

Name: Special Emphasis Panel in Polar Programs (1209).

Date/Time: September 18-20, 2000, 8:30 am-5 pm.

Place: National Science Foundation at 4201, 2000, 8:30am-5 pm.

Type of Meeting: Closed.

Contact Person: Polly A. Penhale, Program Manager, Antarctic Biology and Medicine, Office of Polar Programs Rm. 755S, 4201 Wilson Boulevard, Arlington, VA 22230. Telephone: (703) 292-8033.

Purpose of Meeting: To provide advice and recommendations concerning proposals submitted to NSF for financial support.

Agenda: To review and evaluate Antarctic Biology & Medicine proposals as part of the selection process for awards.

Reason for Closing: The proposals being reviewed include information of a proprietary or confidential nature, including technical information; financial data, such as salaries and personal information concerning individuals associated with the propsoals. These matters are exempt under 5 U.S.C. 552b(c), (4) and (6) of the Government in the Sunshine Act.

Dated: August 11, 2000.
Karen J. York,
Committee Management Officer.

[FR Doc. 00-20835 Filed 8-15-00; 8:45 am]

BILLING CODE 7555-01-M